DEPARTMENT OF TRANSPORTATION

National Highway Traffic Safety Administration

49 CFR Part 571

Federal Motor Vehicle Safety Standards

CFR Correction

In Title 49 of the Code of Federal Regulations, Parts 400 to 571, revised as of October 1, 2011, on page 603, in § 571.119, Table II is corrected to read as follows:

§ 571.119 Standard No. 119; New pneumatic tires for motor vehicles with a GVWR of more than 4,536 kilograms (10,000 pounds) and motorcycles.

* * * * *

Table II—Minimum Static Breaking Energy
[Joules (J) and Inch-Pounds (inch-lbs)]
Tire characteristic: Plunger diameter (mm and inches): Breaking Energy | Motorcycle: 7.94 mm: J | Motorcycle: 5/16″: In-lbs | All 12 rim diameter code or smaller except motorcycle: 19.05 mm: J | All 12 rim diameter code or smaller except motorcycle: ¾″: In-lbs | Light truck and 17.5 rim diameter code or smaller Tubeless: 19.05 mm: J | Light truck and 17.5 rim diameter code or smaller Tubeless: ¾″: In-lbs | Tires other than Light Truck, Motorcycle, 12 rim diameter code or smaller: Tube type: 31.75 mm: J | Tires other than Light Truck, Motorcycle, 12 rim diameter code or smaller: Tube type: 1¼″: In-lbs | Tires other than Light Truck, Motorcycle, 12 rim diameter code or smaller: Tubeless greater than 17.5 rim diameter code: 31.75 mm: J | Tires other than Light Truck, Motorcycle, 12 rim diameter code or smaller: Tubeless greater than 17.5 rim diameter code: 1¼″: In-lbs | Tires other than Light Truck, Motorcycle, 12 rim diameter code or smaller: Tube type: 38.10 mm: J | Tires other than Light Truck, Motorcycle, 12 rim diameter code or smaller: Tube type: 1½″: In-lbs | Tires other than Light Truck, Motorcycle, 12 rim diameter code or smaller: Tubeless greater than 17.5 rim diameter code: 38.10 mm: J | Tires other than Light Truck, Motorcycle, 12 rim diameter code or smaller: Tubeless greater than 17.5 rim diameter code: 1½″: In-lbs
Load Range:
A | 16 | 150 | 67 | 600 | 225 | 2,000 |  |  |  |  |  |  |  |
B | 33 | 300 | 135 | 1,200 | 293 | 2,600 |  |  |  |  |  |  |  |
C | 45 | 400 | 203 | 1,800 | 361 | 3,200 | 768 | 6,800 | 576 | 5,100 |  |  |  |
D |  |  | 271 | 2,400 | 514 | 4,550 | 892 | 7,900 | 734 | 6,500 |  |  |  |
E |  |  | 338 | 3,000 | 576 | 5,100 | 1,412 | 12,500 | 971 | 8,600 |  |  |  |
F |  |  | 406 | 3,600 | 644 | 5,700 | 1,785 | 15,800 | 1,412 | 12,500 |  |  |  |
G |  |  |  |  | 711 | 6,300 |  |  |  |  | 2,282 | 20,200 | 1,694 | 15,000
H |  |  |  |  | 768 | 6,800 |  |  |  |  | 2,598 | 23,000 | 2,090 | 18,500
J |  |  |  |  |  |  |  |  |  |  | 2,824 | 25,000 | 2,203 | 19,500
L |  |  |  |  |  |  |  |  |  |  | 3,050 | 27,000 |  |
M |  |  |  |  |  |  |  |  |  |  | 3,220 | 28,500 |  |
N |  |  |  |  |  |  |  |  |  |  | 3,389 | 30,000 |  |

* * * * *

[FR Doc. 2012-22003 Filed 9-5-12; 8:45 am]

BILLING CODE 4910-59-P